DELAWARE RIVER BASIN COMMISSION

Notice of Commission Meeting and Public Hearing

Notice is hereby given that the Delaware River Basin Commission will hold an informal conference followed by a public hearing on Wednesday, March 7, 2012. The hearing will be part of the Commission's regularly scheduled business meeting. The conference session and business meeting both are open to the public and will be held at the West Trenton Volunteer Fire Company, located at 40 West Upper Ferry Road, West Trenton, New Jersey.

The morning conference session will begin at 10:30 a.m. and will consist of presentations on: (a) the Final Report: Delaware River Priority Conservation Areas and Recommended Conservation Strategies, prepared by The Nature Conservancy under a grant from the National Fish and Wildlife Foundation; (b) the Christina River Basin water protection area ordinance and mapping project; and (c) DRBC's new Web site.

Items for Public Hearing. The subjects of the public hearing to be held during the 1:30 p.m. business meeting on March 7, 2012 include draft dockets for which the names and brief descriptions will be posted on the Commission's Web site at www.nj.gov/drbc at least 10 days prior to the meeting date. Complete draft dockets will be posted on the Web site ten days prior to the meeting date. Additional public records relating to the dockets may be examined at the Commission's offices. Please contact William Muszynski at 609-883-9500, extension 221, with any docket-related questions.

In addition to the hearings on draft dockets, a public hearing also will be held during the 1:30 p.m. business meeting on a resolution authorizing the Executive Director to extend the Commission's agreements with Axys Analytical Services, Ltd. for the analysis of ambient water, wastewater and sediment samples (agreement of July 2010) and fish tissue samples (agreement of September 2006) in connection with the control of certain toxic substances in the Delaware Estuary.

Other Agenda Items. Other agenda items consist of the standard business meeting items: adoption of the Minutes of the Commission's December 8, 2011 business meeting, announcements of upcoming meetings and events, a report on hydrologic conditions, reports by the Executive Director and the Commission's General Counsel, and a public dialogue session.

Opportunities to Comment. Individuals who wish to comment for the record on a hearing item or to address the Commissioners informally during the public dialogue portion of the meeting are asked to sign up in advance by contacting Ms. Paula Schmitt of the Commission staff, at paula.schmitt@drbc.state.nj.us or by phoning Ms. Schmitt at 609-883-9500 ext. 224. Written comment on items scheduled for hearing may be submitted in advance of the meeting date to: Commission Secretary, P.O. Box 7360, 25 State Police Drive, West Trenton, NJ 08628; by fax to Commission Secretary, DRBC at 609-883-9522 or by email to paula.schmitt@drbc.state.nj.us. Written comment on dockets should also be furnished directly to the Project Review Section at the above address or fax number or by email to william.muszynski@drbc.state.nj.us.

Individuals in need of an accommodation as provided for in the Americans with Disabilities Act who wish to attend the informational meeting, conference session or hearings should contact the Commission Secretary directly at 609-883-9500 ext. 203 or through the Telecommunications Relay Services (TRS) at 711, to discuss how we can accommodate your needs.

Agenda Updates. Note that conference items are subject to change and items scheduled for hearing are occasionally postponed to allow more time for the Commission to consider them. Please check the Commission's Web site, drbc.net, closer to the meeting date for changes that may be made after the deadline for filing this notice.

Dated: February 14, 2012.
Pamela M. Bush,
Commission Secretary.

[FR Doc. 2012-3907 Filed 2-17-12; 8:45 am]

BILLING CODE 6360-01-P